DEPARTMENT OF COMMERCE

National Institute of Standards and Technology

Board of Overseers of the Malcolm Baldrige National Quality Award and Judges Panel of the Malcolm Baldrige National Quality Award

AGENCY: National Institute of Standards and Technology, Department of Commerce.

ACTION: Notice of open meeting.

SUMMARY: The Board of Overseers of the Malcolm Baldrige National Quality Award (Board of Overseers) and the Judges Panel of the Malcolm Baldrige National Quality Award (Judges Panel) will meet in open session on Thursday, June 11, 2020, from 11:00 a.m. to 4:00 p.m. Eastern time. The Board of Overseers, appointed by the Secretary of Commerce, reports the results of the Malcolm Baldrige National Quality Award (Award) activities to the Director of the National Institute of Standards and Technology (NIST) each year, along with its recommendations for the improvement of the Award process. The Judges Panel, also appointed by the Secretary of Commerce, ensures the integrity of the Award selection process and recommends Award recipients to the Secretary of Commerce. The purpose of this meeting is to discuss and review information received from the National Institute of Standards and Technology and from the Chair of the Judges Panel. The agenda will include: Baldrige Program Update, Baldrige Foundation Update, Baldrige Judges Panel Update, Ethics Review, Baldrige Award Process, and New Business/Public Comment.

DATES: The meeting will be held on Thursday, June 11, 2020 from 11:00 a.m. Eastern Time until 4:00 p.m. Eastern Time. The meeting will be open to the public.

ADDRESSES: The meeting will be a virtual meeting by webinar. Please note admittance instructions under the SUPPLEMENTARY INFORMATION section of this notice.

FOR FURTHER INFORMATION CONTACT: Robert Fangmeyer, Director, Baldrige Performance Excellence Program, by email at robert.fangmeyer@nist.gov, or Robyn Verner at robyn.verner@nist.gov or 301-975-2361.

SUPPLEMENTARY INFORMATION: Pursuant to the Federal Advisory Committee Act, as amended, 5 U.S.C. App., notice is hereby given that the Board of Overseers and the Judges Panel will meet in open session on Thursday, June 11, 2020 from 11:00 a.m. to 4:00 p.m. Eastern Time. The Board of Overseers (Board), composed of approximately twelve members preeminent in the field of organizational performance excellence and appointed by the Secretary of Commerce, makes an annual report on the results of Award activities to the Director of the National Institute of Standards and Technology (NIST), along with its recommendations for improvement of the Award process. The Judges Panel consists of no less than nine, and not more than twelve, members with balanced representation from U.S. service, manufacturing, small business, nonprofit, education, and health care industries. The Panel includes members who are familiar with the quality improvement operations and competitiveness issues of manufacturing companies, service companies, small businesses, nonprofits, health care providers, and educational institutions. The Judges Panel recommends Malcolm Baldrige National Quality Award recipients to the Secretary of Commerce.

The purpose of this meeting is to discuss and review information received from NIST and from the Chair of the Judges Panel of the Malcolm Baldrige National Quality Award. The agenda will include: Baldrige Program Update, Baldrige Foundation Update, Baldrige Judges Panel Update, Ethics Review, Baldrige Award Process, and New Business/Public Comment. The agenda may change to accommodate the Judges Panel and Board of Overseers business. The final agenda will be posted on the NIST Baldrige Performance Excellence website at http://www.nist.gov/baldrige/community/overseers.cfm. The meeting is open to the public.

Individuals and representatives of organizations who would like to offer comments and suggestions related to the Board's affairs and/or the Panel of Judges' general process are invited to request a place on the agenda. On June 11, 2020, approximately one-half hour will be reserved in the afternoon for public comments, and speaking times will be assigned on a first-come, first-served basis. The amount of time per speaker will be determined by the number of requests received, but is likely to be about 3 minutes each. The exact time for public comments will be included in the final agenda that will be posted on the Baldrige Performance Excellence Program website at http://www.nist.gov/baldrige/community/overseers.cfm. Questions from the public will not be considered during this period. Requests must be submitted by email to Robyn Verner at robyn.verner@nist.gov and must be received by 4:00 p.m. Eastern Time, May 28, 2020 to be considered. Speakers who wish to expand upon their oral statements, those who had wished to speak, but could not be accommodated on the agenda, and those who were unable to attend in person are invited to submit written statements by email to robyn.verner@nist.gov.

Admittance instructions: All participants will be attending via webinar. Please contact Ms. Verner by telephone at (301) 975-2785 or by email at robyn.verner@nist.gov for detailed instructions on how to join the webinar. All requests must be received by 4:00 p.m. Eastern Time, May 28, 2020.

Pursuant to 41 CFR 102-3.150(b), this Federal Register notice for this meeting is being published fewer than 15 calendar days prior to the meeting as exceptional circumstances exist due to COVID-19.

Authority: 15 U.S.C. 3711a(d)(1), 15 U.S.C. 3711a(d)(2)(B) and the Federal Advisory Committee Act, as amended, 5 U.S.C. App.

Kevin A. Kimball,
Chief of Staff.

[FR Doc. 2020-11637 Filed 5-29-20; 8:45 am]

BILLING CODE 3510-13-P